SECURITIES AND EXCHANGE COMMISSION

[Release No. 34-91284; File No. SR-NYSEArca-2020-77]

Self-Regulatory Organizations; NYSE Arca, Inc.; Notice of Withdrawal of a Proposed Rule Change To Amend NYSE Arca Rule 8.601-E To Adopt Generic Listing Standards for Active Proxy Portfolio Shares

March 9, 2021.

On August 31, 2020, NYSE Arca, Inc. (“NYSE Arca”) filed with the Securities and Exchange Commission (“Commission”), pursuant to Section 19(b)(1) of the Securities Exchange Act of 1934 (“Act”) ¹ and Rule 19b-4 thereunder,² a proposed rule change to amend NYSE Arca Rule 8.601-E to adopt generic listing standards for Active Proxy Portfolio Shares. The proposed rule change was published for comment in the Federal Register on September 21, 2020.³ On October 30, 2020, pursuant to Section 19(b)(2) of the Act,⁴ the Commission designated a longer period within which to approve the proposed rule change, disapprove the proposed rule change, or institute proceedings to determine whether to disapprove the proposed rule change.⁵ On December 11, 2020, the Commission instituted proceedings to determine whether to approve or disapprove the proposed rule change.⁶ The Commission received no comments on the proposed rule change. On March 5, 2021, the Exchange withdrew the proposed rule change (SR-NYSEArca-2020-77).

¹ 15 U.S.C. 78s(b)(1).

² 17 CFR 240.19b-4.

³ See Securities Exchange Act Release No. 89874 (September 15, 2020), 85 FR 59338.

⁴ 15 U.S.C. 78s(b)(2).

⁵ See Securities Exchange Act Release No. 90296, 85 FR 70696 (November 5, 2020).

⁶ See Securities Exchange Act Release No. 90652, 85 FR 82011 (December 17, 2020).

For the Commission, by the Division of Trading and Markets, pursuant to delegated authority.⁷
⁷ 17 CFR 200.30-3(a)(12).
J. Matthew DeLesDernier,
Assistant Secretary.

[FR Doc. 2021-05239 Filed 3-12-21; 8:45 am]

BILLING CODE 8011-01-P